DEPARTMENT OF ENERGY

Federal Energy Regulatory Commission

Combined Notice of Filings

Take notice that the Commission has received the following Natural Gas Pipeline Rate and Refund Report filings:

Filings Instituting Proceedings

Docket Numbers: RP13-1387-000.

Applicants: Enable Mississippi River Transmission, LLC.

Description: Submits tariff filing per 154.501: MRT Refund Report to be effective N/A.

Filed Date: 12/20/13.

Accession Number: 20131220-5172.

Comments Due: 5 p.m. ET 1/2/14.

Docket Numbers: RP14-326-000.

Applicants: Gulf South Pipeline Company, LP.

Description: Amendment to Neg Rate Agmt (Devon 34694-52) to be effective 12/1/2013.

Filed Date: 12/30/13.

Accession Number: 20131230-5047.

Comments Due: 5 p.m. ET 1/13/14.

Docket Numbers: RP14-327-000.

Applicants: Colorado Interstate Gas Company, L.L.C.

Description: Colorado Interstate Gas Company, L.L.C. submits tariff filing per 154.403(d)(2): Update of Young Storage Related Fuel Percentages to be effective 1/1/2014.

Filed Date: 12/30/13.

Accession Number: 20131230-5221.

Comments Due: 5 p.m. ET 1/13/14.

Docket Numbers: RP72-6-000.

Applicants: El Paso Natural Gas Company.

Description: El Paso Natural Gas Company, L.L.C.'s Semi-Annual Storage Report for Washington Ranch Storage Facility.

Filed Date: 12/30/13.

Accession Number: 20131230-5142.

Comments Due: 5 p.m. ET 1/13/14.

Docket Numbers: RP14-328-000.

Applicants: Rockies Express Pipeline LLC.

Description: Rockies Express Pipeline LLC submits tariff filing per 154.204: Neg Rate 2013-12-31 Sempra, ConocoPhil NC NRA A&R to be effective 1/1/2014.

Filed Date: 12/31/13.

Accession Number: 20131231-5003.

Comments Due: 5 p.m. ET 1/13/14.

Docket Numbers: RP14-329-000.

Applicants: Sea Robin Pipeline Company, LLC.

Description: Sea Robin Pipeline Company, LLC submits tariff filing per 154.203: Annual Flowthrough Crediting Mechanism filing on 12/31/13 to be effective N/A.

Filed Date: 12/31/13.

Accession Number: 20131231-5057.

Comments Due: 5 p.m. ET 1/13/14.

Docket Numbers: RP14-330-000.

Applicants: Texas Gas Transmission, LLC.

Description: Texas Gas Transmission, LLC submits tariff filing per 154.204: Amendment to Neg Rate Agmt (Cross Timbers 31115-2) to be effective 1/1/2014.

Filed Date: 12/31/13.

Accession Number: 20131231-5071.

Comments Due: 5 p.m. ET 1/13/14.

Docket Numbers: RP14-331-000.

Applicants: Gulf South Pipeline Company, LP.

Description: Gulf South Pipeline Company, LP submits tariff filing per 154.204: Cap Rel Neg Rate Agmt (JW 34690 to Q-West 41781) to be effective 1/1/2014.

Filed Date: 12/31/13.

Accession Number: 20131231-5072.

Comments Due: 5 p.m. ET 1/13/14.

Docket Numbers: RP14-332-000.

Applicants: Iroquois Gas Transmission System, L.P.

Description: Iroquois Gas Transmission System, L.P. submits tariff filing per 154.204: 12/31/13 Negotiated Rates—JP Morgan Ventures (RTS) 6025-26 to be effective 1/1/2014.

Filed Date: 12/31/13.

Accession Number: 20131231-5079.

Comments Due: 5 p.m. ET 1/13/14.

Docket Numbers: RP14-333-000.

Applicants: Columbia Gas Transmission, LLC.

Description: Columbia Gas Transmission, LLC submits tariff filing per 154.403: Environmental Filing 2013 to be effective 2/1/2014.

Filed Date: 12/31/13.

Accession Number: 20131231-5091.

Comments Due: 5 p.m. ET 1/13/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-268-001.

Applicants: Iroquois Gas Transmission System, L.P.

Description: Submits tariff filing per 154.205(b) Negotiated Rates—JP Morgan Ventures Energy Corp (HUB) to be effective 12/11/2013.

Filed Date: 12/12/13.

Accession Number: 20131212-5132.

Comments Due: 5 p.m. ET 1/3/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2013.
Nathaniel J. Davis, Sr.,
Deputy Secretary.

[FR Doc. 2014-00014 Filed 1-6-14; 8:45 am]

BILLING CODE 6717-01-P